DEPARTMENT OF HEALTH AND HUMAN SERVICES

Centers for Medicare & Medicaid Services

[CMS-5506-N4]

Medicare Program; Comprehensive ESRD Care Initiative; Extension of the Submission Deadlines for the Letters of Intent and Applications

AGENCY: Centers for Medicare & Medicaid Services (CMS), HHS.

ACTION: Reopening of the application period.

SUMMARY: This notice reopens the application period and provides information on new dates for the submission of the Comprehensive ESRD Care initiative letters of intent and application. The letter of intent submission date for End-stage Renal Disease Seamless Care Organizations (ESCOs) that include a dialysis facility from a large dialysis organization (LDO) is June 23, 2014, and the submission deadline for the LDO application is June 23, 2014. The letter of intent submission date for ESCOs that include a non-LDO facility is September 15, 2014, and the submission deadline for the non-LDO application is September 15, 2014.

DATES: Letter of Intent Submission Deadline: Interested large dialysis organizations (LDOs) must submit a non-binding letter of intent on or before June 23, 2014, and interested non-large dialysis organizations (non-LDOs) must submit a non-binding letter of intent on or before September 15, 2014, by an online form at: http://innovationgov.force.com/cec.

Application Submission Deadline: Interested LDO applicants must submit an application on or before June 23, 2014, and interested non-LDO applicants must submit an application on or before September 15, 2014, by an online form at: http://innovationgov.force.com/rfa.

An updated Request for Applications which includes the new submission deadlines and additional updates is available on the Innovation Center Web site at: http://innovation.cms.gov/initiatives/comprehensive-ESRD-care.

FOR FURTHER INFORMATION CONTACT: Alefiyah Mesiwala, (410) 786-2224 or ESRD-CMMI@cms.hhs.gov.

SUPPLEMENTARY INFORMATION:

I. Background

The Center for Medicare and Medicaid Innovation (Innovation Center) is interested in identifying models designed to improve care for beneficiaries with end-stage renal disease (ESRD). To promote seamless and integrated care for beneficiaries with ESRD, we are developing a comprehensive care delivery model to emphasize coordination of a full-range of clinical and non-clinical services across providers, suppliers, and settings. Through the Comprehensive ESRD Care Model, we seek to identify ways to improve the coordination and quality of care for this population, while lowering total per-capita expenditures to the Medicare program. We anticipate that the Comprehensive ESRD Care Model would result in improved health outcomes for beneficiaries with ESRD regarding the functional status, quality of life, and overall well-being, as well as increased beneficiary and caregiver engagement, and lower costs to Medicare through improved care coordination.

On February 6, 2013, we published a notice in the Federal Register announcing a request for applications from organizations to participate in the testing of the Comprehensive ESRD Care Model, for a period beginning in 2013 and ending in 2016, with a possible extension into subsequent years. In that notice, we stated that organizations interested in applying to participate in the testing of the Comprehensive ESRD Care Model must submit a non-binding letter of intent by March 15, 2013, and an application by May 1, 2013.

Several stakeholders requested additional time to prepare their applications and form partnerships. Therefore, the Innovation Center extended the deadlines relating to the Comprehensive ESRD Care initiative. On July 17, 2013, we published a notice in the Federal Register announcing an extension of deadlines. The new deadlines were July 19, 2013 for the Letter of Intent and August 1, 2013 for the application. On August 9, 2013, we published an additional notice in the Federal Register announcing an extension of deadlines. The notice reopened the Letters of Intent submission period and extended the deadlines for submission of both the Letters of Intent and the Applications to August 30, 2013.

II. Provisions of the Notice

Since the publication of the August 9, 2013 notice, we have made several revisions to the design of the Comprehensive ESRD Care initiative. Therefore, for the Comprehensive ESRD Care Initiative, the Innovation Center is reopening the Letters of Intent submission period and extending the deadlines for submission of both the Letters of Intent and the Applications. The new deadline for submission of the letter of intent is June 23, 2014 for LDO applicants and September 15, 2014 for non-LDO applicants; and the new deadline for submission of the application is June 23, 2014, for LDO applicants and September 15, 2014 for non-LDO applicants.

In the DATES section of this notice, we are including the new submissions deadlines. For additional information on the Comprehensive ESRD Care Model, and how to apply, we refer the reader to click on the Request for Applications located on the Innovation Center Web site at: http://innovation.cms.gov/initiatives/comprehensive-ESRD-care.

Dated: April 11, 2014.
Marilyn Tavenner,
Administrator, Centers for Medicare & Medicaid Services.

[FR Doc. 2014-08758 Filed 4-15-14; 11:15 am]

BILLING CODE 4120-01-P